LEGAL SERVICES CORPORATION

Notice to LSC Grantees of Application Process for Making 2022 Mid-Year and 2023 Basic Field Fund Subgrants

AGENCY: Legal Services Corporation.

ACTION: Notice of application dates and format for applications for approval to make 2022 mid-year and 2023 Basic Field Grant fund subgrants.

SUMMARY: The Legal Services Corporation (LSC) is the national organization charged with administering Federal funds provided for civil legal services to low-income people. LSC hereby announces the submission dates for applications to make 2022 mid-year and 2023 Basic Field Grant fund subgrants. LSC is also providing information about where applicants may locate subgrant application questions and directions for providing the information required to apply for a subgrant.

DATES: See SUPPLEMENTARY INFORMATION section for application dates.

ADDRESSES: Legal Services Corporation—Office of Compliance and Enforcement, 3333 K Street NW, Third Floor, Washington, DC 20007-3522.

FOR FURTHER INFORMATION CONTACT: Megan Lacchini, Office of Compliance and Enforcement at lacchinim@lsc.gov or (202) 295-1506 or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on LSC's website.” 45 CFR 1627.4(b). This Notice and the publication of the Subgrant Application on LSC's website satisfy § 1627.4(b)'s notice requirement for the Basic Field Grant program. Only current or prospective recipients of LSC Basic Field Grants may apply for approval to subgrant these funds.

Applications for approval to make 2022 mid-year and calendar year 2023 Basic Field Grant fund subgrants will be available on or around April 11, 2022. An applicant must apply to make a mid-year subgrant of LSC Basic Field Grant funds through GrantEase at least 45 days before the subgrant's proposed effective date. 45 CFR 1627.4(b)(2). An applicant must apply to make calendar year subgrants of 2023 Basic Field Grant funds through GrantEase in conjunction with its application(s) for 2023 Basic Field Grant funding. 45 CFR 1627.4(b)(1). The deadline for 2023 Basic Field Grant funding application submissions is June 17, 2022 by 11:59 p.m. EDT.

All applicants must provide answers to the application questions in GrantEase and upload the following documents:

• A draft subgrant agreement (with the required terms provided in LSC's Subgrant Agreement Template); and

• A subgrant budget (using LSC's Subgrant Budget Template)

Applicants seeking to subgrant to a new subrecipient that is not a current LSC grantee, or to renew a subgrant with an organization that is not a current LSC grantee in a year in which the applicant is required to submit a full funding application must also upload:

• The subrecipient's accounting manual;

• The subrecipient's most recent audited financial statements;

• The subrecipient's current cost allocation policy (if not in the accounting manual); and

• The recipient's 45 CFR part 1627 Policy (required under 45 CFR 1627.7).

A list of subgrant application questions, the Subgrant Agreement Template, and the Subgrant Budget Template are available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate the application and provide applicants with instructions on any needed modifications to the submitted documents or Draft Agreement provided with the application. The applicant must then upload a final and signed subgrant agreement through GrantEase by the date requested.

As required by 45 CFR 1627.4(b)(3), LSC will inform applicants of its decision to disapprove or approve an application for a 2022 mid-year subgrant no later than the subgrant's proposed effective date. As required by 45 CFR 1627.4(b)(1)(ii), LSC will inform applicants of its decision to disapprove or approve a 2023 calendar-year subgrant no later than the date LSC informs applicants of LSC's 2023 Basic Field Grant funding decisions.

(Authority: 42 U.S.C. 2996g(e))

Dated: March 25, 2022.
Stefanie Davis,
Senior Associate General Counsel.

[FR Doc. 2022-06758 Filed 3-30-22; 8:45 am]

BILLING CODE 7050-01-P